DEPARTMENT OF HEALTH AND HUMAN SERVICES

National Institutes of Health

National Cancer Institute; Amended Notice of Meeting

Notice is hereby given of a change in the meeting of the Advisory Committee to the Director, National Cancer Institute, November 6, 2000, 9:30 a.m. to November 6, 2000, 11 p.m., National Institutes of Health, 9000 Rockville Pike, Building 31, Room 11A10, Bethesda, MD 20892 which was published in the Federal Register on October 5, 2000, 65FR59453.

The meeting will be held from 9:30 a.m. to 11 a.m. The meeting is open to the public.

Dated: October 11, 2000.
LaVerne Y. Stringfield,
Director, Office of Federal Advisory Committee Policy.

[FR Doc. 00-26863 Filed 10-18-00; 8:45 am]

BILLING CODE 4140-01-M